NUCLEAR REGULATORY COMMISSION

[NRC-2023-0145]

Draft Interim Staff Guidance: Radiological Survey and Dose Modeling of the Subsurface To Support License Termination

AGENCY: Nuclear Regulatory Commission.

ACTION: Draft guidance; request for comment.

SUMMARY: The U.S. Nuclear Regulatory Commission (NRC) is soliciting public comment on draft Interim Staff Guidance (ISG), DUWP-ISG-02, “Radiological Survey and Dose Modeling of the Subsurface to Support License Termination.” The purpose of this draft ISG is to provide guidance on surveys of open surfaces in the subsurface, including open excavations, materials planned for reuse, and substructures. This draft ISG also provides guidance on the use of commonly used decommissioning dose modeling codes for submerged and partially submerged substructures to develop clean-up levels, and on methods to evaluate risk from existing groundwater contamination. This draft ISG supplements guidance found in NUREG-1757, Volume 2, Revision 2, which pertains to licensees subject to the license termination rule found in NRC regulations. If finalized, this ISG is intended for use by applicants, licensees, and NRC staff. The guidance is also available to Agreement States and the public.

DATES: Submit comments by December 18, 2023. Comments received after this date will be considered if it is practical to do so, but the Commission is able to ensure consideration only for comments received on or before this date.

ADDRESSES: You may submit comments by any of the following methods; however, the NRC encourages electronic comment submission through the Federal rulemaking website.

• Federal rulemaking Website: Go to http://www.regulations.gov and search for Docket ID NRC-2023-0145. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Cynthia Barr, Office of Nuclear Material Safety and Safeguards, U.S. Nuclear Regulatory Commission, Washington, DC 20555-0001; telephone: 301-415-4015; email: Cynthia.Barr@nrc.gov.

SUPPLEMENTARY INFORMATION:

I. Obtaining Information and Submitting Comments

A. Obtaining Information

Please refer to Docket ID NRC-2023-0145 when contacting the NRC about the availability of information for this action. You may obtain publicly available information related to this action by any of the following methods:

• Federal Rulemaking Website: Go to https://www.regulations.gov and search for Docket ID NRC-2023-0145.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The draft ISG, DUWP-ISG-02, “Radiological Survey and Dose Modeling of the Subsurface to Support License Termination,” is available in ADAMS under Accession No. ML23177A008.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2023-0145 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The NRC is issuing this draft ISG to supplement guidance provided in NUREG-1757, Volume 2, Revision 2, “Consolidated Decommissioning Guidance, Characterization, Survey, and Determination of Radiological Criteria,” which was issued in July 2022 (ADAMS Accession No. ML22194A859). The draft ISG provides additional guidance developed after Revision 2 to NUREG-1757, Volume 2, was published related to surveys of open surfaces in the subsurface, including open excavations, materials planned for reuse, and substructures. The draft ISG also provides guidance on the use of commonly used decommissioning dose modeling codes to develop clean-up levels for submerged and partially submerged substructures, and on methods to evaluate risk from existing groundwater contamination. The NRC staff held two subsurface investigations workshops on July 14-15, 2021, and May 11, 2022, to help support the development of this proposed ISG, and contracted with Oak Ridge Associated Universities to develop guidance on acceptable survey methods.

The NRC staff recognizes that the draft ISG includes significant advancements in methods to perform radiological surveys and dose modeling for subsurface residual radioactivity. Licensees may choose to take advantage of these advancements immediately. However, this draft ISG is being published for comment, and the NRC staff may make revisions and corrections in the final ISG. Such changes from the draft ISG would not be a change in position because a draft guidance document issued for comment does not constitute a staff position.

The draft regulatory analysis for the draft ISG is available in ADAMS under ML23177A009 and is also available for comment.

III. Backfitting, Forward Fitting, and Issue Finality

Issuance of this ISG, if finalized, would not (i) constitute backfitting as defined in section 50.109 of title 10 of the Code of Federal Regulations (10 CFR), “Backfitting,” 70.76, “Backfitting,” and 72.62, “Backfitting,” and as described in Management Directive (MD) 8.4, “Management of Backfitting, Forward Fitting, Issue Finality, and Information Requests”; (ii) affect issue finality of any approval issued under 10 CFR part 52, “Licenses, Certifications, and Approvals for Nuclear Power Plants”; or (iii) constitute forward fitting as that term is defined and described in MD 8.4, because licensees would not be required to comply with the positions set forth in this ISG, if finalized.

Dated: October 16, 2023.
For the Nuclear Regulatory Commission.
Jane E. Marshall,
Director, Division of Decommissioning, Uranium Recovery, and Waste Programs, Office of Nuclear Material Safety and Safeguards.

[FR Doc. 2023-23114 Filed 10-18-23; 8:45 am]

BILLING CODE 7590-01-P